DEPARTMENT OF THE TREASURY

Community Development Financial Institutions Fund

Agency Information Collection Activities; Proposed Collection: Comment Request; Uses of Awards Report Form

ACTION: Notice and request for comments.

SUMMARY: The U.S. Department of the Treasury, as part of its continuing effort to reduce paperwork and respondent burden, invites the general public and other Federal agencies to take this opportunity to comment on proposed information collections, as required by the Paperwork Reduction Act of 1995. Currently, the Community Development Financial Institutions Fund (the CDFI Fund), the Department of the Treasury, is soliciting comments concerning the Uses of Awards Report Form, which is completed by the Bank Enterprise Award Program (BEA Program) Recipients and the Community Development Financial Institutions Program (CDFI Program) and Native American CDFI Assistance Program (NACA Program) Recipients.

DATES: Written comments should be received on or before December 16, 2019 to be assured of consideration.

ADDRESSES: Direct all comments in writing to Mia Sowell, Associate Program Manager, Community Development Financial Institutions Fund, U.S. Department of the Treasury, 1500 Pennsylvania Avenue NW, Washington, DC 20220, by email to cdfihelp@cdfi.treas.gov, or by facsimile to (202) 508-0083. Please note that this is not a toll free number.

FOR FURTHER INFORMATION CONTACT: Requests for additional information should be directed to Mia Sowell, Associate Program Manager, Community Development Financial Institutions Fund, U.S. Department of the Treasury, 1500 Pennsylvania Avenue NW, Washington, DC 20220, by email to cdfihelp@cdfi.treas.gov, or by phone to (202) 653-0421. Please note that these are not toll free numbers.

SUPPLEMENTARY INFORMATION:

Title: Uses of Award Report Form.

OMB Number: 1559-0032.

There is no significant content change to the form, however the format will be revised to: (1) Include a system-generated validation data point to capture Persistent Poverty County investments made by BEA Program Recipients; and (2) display a table that describes and easily identifies which data points are collected for each program (BEA, CDFI, NACA Programs). The revised form is also consistent with the format of the CDFI Fund's Annual Compliance report.

The Uses of Award Report Form may be obtained from the CDFI Fund's website at http://www.cdfifund.gov/bea under How to Apply Step 4: Compliance and Reporting or http://www.cdfifund.gov/cdfi under How to Apply Step 5: Compliance and Reporting.

Type of Review: Revision of a currently approved collection.

Description: The CDFI Fund is seeking to revise its Uses of Award Report Form to validate investments made in Persistent Poverty Counties (PPCs) by BEA Program award Recipients in compliance with the PPC Congressional Mandate. The CDFI Fund's appropriation in the Consolidated Appropriations Act, 2019 (Pub. L. 116-6), enacted February 15, 2019, requires that at least 10 percent of BEA Program funds be used for Awards that support investments that serve populations living in PPCs. In order to meet this requirement, Applicants are required to indicate the minimum and maximum percentage of the Estimated BEA Program Award the Applicant will commit to deploying in PPCs.

A Persistent Poverty County is any county that has had 20 percent or more of its population living in poverty over the past 30 years, as measured by the 1990 and 2000 decennial census, and the 2011-2015 5-year data series available from the American Community Survey from the Census Bureau. A Recipient that made commitments to serve Persistent Poverty Counties is required to identify the portion of the total award amount used for BEA Qualified Activities in Persistent Poverty Counties.

The purpose of the BEA Program is to provide an incentive to insured depository institutions to increase their activities in the form of loans, investments, services, and technical assistance within distressed communities and provide financial assistance to certified Community Development Financial Institutions (CDFIs) through grants, stock purchases, loans, deposits, and other forms of financial and technical assistance. Applicants submit applications and are evaluated in accordance with statutory and regulatory requirements (12 CFR 1806), and requirements that are set forth in the annual Notice of Funds Availability. The CDFI Fund requires BEA Program Award Recipients to use BEA Program Awards for BEA Program Qualified Activities, as defined in the BEA Program regulations. Recipients are required to report to the CDFI Fund on their Qualified Activities per their Award Agreements.

The CDFI Program was established by the Community Development and Regulatory Improvement Act of 1994 to use federal resources to invest in and build the capacity of CDFIs to serve low-income people and communities lacking adequate access to affordable financial products and services. The CDFI Fund created the Native Initiatives, which includes the NACA Program, to further support the creation and expansion of Native CDFIs. Through the CDFI Program and NACA Program, the CDFI Fund provides: (1) Financial Assistance (FA) awards to CDFIs and Native CDFIs that have Comprehensive Business Plans for creating demonstrable community development impact through the deployment of credit, capital, and financial services within Target Markets and/or Eligible Markets; ¹ and (ii) Technical Assistance (TA) grants to CDFIs and Native CDFIs and entities proposing to become CDFIs or Native CDFIs in order to build their capacity to better address the community development and capital access needs of their existing or proposed Target Markets and/or to become certified CDFIs. CDFI Program applicants submit applications and are evaluated in accordance with statutory and regulatory requirements (12 CFR 1805), and requirements that are set forth in an annual Notice of Funds Availability. NACA Program applicants submit applications and are evaluated in accordance with requirements that are set forth in an annual Notice of Funds Availability. Recipients with FA or TA awards are required to report to the CDFI Fund on the uses of those funds per their Assistance Agreements.

¹ Eligible Market is defined as (i) a geographic area meeting the requirements set forth in 12 CFR 1805.201(b)(3)(ii), or (ii) individuals that are Low-Income, African American, Hispanic, Native American, Native Hawaiians residing in Hawaii, Alaska Natives residing in Alaska, or Other Pacific Islanders residing in American Samoa, Guam or the Northern Mariana Islands.

Affected Public: Recipients of BEA Program awards.

Estimated Number of Respondents: 120.

Frequency of Response: Once.

Estimated Total Number of Annual Responses: 120.

Estimated Annual Time per Respondent: 1 hour.

Estimated Total Annual Burden Hours: 120 hours.

Affected Public: Recipients of CDFI or NACA Program awards.

Estimated Number of Respondents: 700.

Frequency of Response: Annually.

Estimated Total Number of Annual Responses: 700.

Estimated Annual Time per Respondent: 30 min.

Estimated Total Annual Burden Hours: 350 hours.

Requests for Comments: Comments submitted in response to this notice will be summarized and/or included in the request for the Office of Management and Budget (OMB) approval. All comments will become a matter of public record and will be published on the CDFI Fund website at http://www.cdfifund.gov. Comments are invited on: (a) Whether the collection of information is necessary for the proper performance of the functions of the agency, including whether the information shall have practical utility; (b) the accuracy of the agency's estimate of the burden of the collection of information; (c) ways to enhance the quality, utility, and clarity of the information collected; (d) ways to minimize the burden of the collection of information on respondents, including through the use of technology; and (e) estimates of capital or start-up costs and costs of operation, maintenance, and purchase of services to provide information.

An agency may not conduct or sponsor, and a person is not required to respond to, a collection of information unless the collection of information displays a valid OMB control number.

Authority: 12 U.S.C. 4704, 4713; 12 CFR parts 1805 and 1806.

Dated: October 10, 2019.
Jodie L. Harris,
Director, Community Development Financial Institutions Fund.

[FR Doc. 2019-22574 Filed 10-16-19; 8:45 am]

BILLING CODE 4810-70-P